CONSUMER PRODUCT SAFETY COMMISSION

Collection of Information; Proposed Extension of Approval; Comment Request—Follow-Up Activities for Product-Related Injuries

AGENCY: Consumer Product Safety Commission.

ACTION: Notice.

SUMMARY: As required by the Paperwork Reduction Act of 1995 (44 U.S.C. Chapter 35), the Consumer Product Safety Commission requests comments on a proposed extension of approval of a collection of information from persons who have been involved in or have witnessed incidents associated with consumer products. The Commission will consider all comments received in response to this notice before requesting an extension of approval of this collection of information from the Office of Management and Budget.

DATES: The Office of the Secretary must receive comments not later than July 7, 2003.

ADDRESSES: Written comments should be captioned “Product-Related Injuries” and mailed to the Office of the Secretary, Consumer Product Safety Commission, Washington, DC 20207, or delivered to that office, Room 502, 4330 East-West Highway, Bethesda, Maryland 20814. Written comments may also be sent to the Office of the Secretary by facsimile at (301) 504-0127 or by e-mail at cpsc-os@cpsc.gov.

FOR FURTHER INFORMATION CONTACT: For information about the proposed extension of approval of the collection of information, or to obtain a copy of any of the interview guides or forms used for this collection of information, contact Linda L. Glatz, Office of Planning and Evaluation, Consumer Product Safety Commission, Washington, DC 20207; telephone (301) 504-7671; e-mail lglatz@cpsc.gov.

SUPPLEMENTARY INFORMATION:

A. Background

Section 5(a) of the Consumer Product Safety Act, 15 U.S.C. 2054(a), requires the Commission to collect information related to the causes and prevention of death, injury, and illness associated with consumer products. That legislation also requires the Commission to conduct continuing studies and investigations of deaths, injuries, diseases, other health impairments, and economic losses resulting from accidents involving consumer products. The Commission uses this information to support development and improvement of voluntary standards, rulemaking proceedings, information and education campaigns, and administrative and judicial proceedings. These safety efforts are vitally important to help make consumer products safer and to remove unsafe products from the channels of distribution and from consumers' homes.

Persons who have sustained injuries or who have witnessed safety-related incidents associated with consumer products are an important source of safety information. From consumer complaints, newspaper accounts, death certificates, hospital emergency room reports, and other sources, the Commission investigates a limited number of incidents. These investigations may involve face-to-face or telephone interviews with accident victims or witnesses. The Commission also receives information about product-related injuries from persons who provide written information by using forms displayed on the Commission's internet web site or printed in the Consumer Product Safety Review and other Commission publications.

The Office of Management and Budget (OMB) approved the collection of information concerning product-related injuries under control number 3041-0029. OMB's most recent extension of approval will expire on July 31, 2003. The Commission now proposes to request an extension of approval, with changes, of this collection of information. As explained below, the changes consist of a net addition of 1,772 burden hours.

B. Estimated Burden

The Commission staff obtains information about incidents involving consumer products from approximately 14,100 persons annually. The staff conducts face-to-face interviews at incident sites with approximately 500 persons each year (up from 400 persons in 2000). On average, an on-site interview takes approximately 5 hours. The staff will also conduct approximately 3,200 in-depth investigations by telephone. Each in-depth telephone investigation requires approximately 20 minutes. Additionally, the Commission's hotline staff interviews approximately 5,200 persons each year about incidents involving selected consumer products (up from 2000's estimate of 4,000). These interviews take an average of 10 minutes each. Each year, the Commission also receives information from about 5,200 persons (up from 2000's estimated 2,500) who complete forms requesting information about product-related incidents or injuries. These forms appear on the Commission's internet web site and are printed in the Consumer Product Safety Review and other Commission publications. The staff estimates that completion of the form takes about 12 minutes.

The Commission staff estimates that this collection of information imposes a total annual burden of 5,472 hours on all respondents: 2,500 hours for face-to-face interviews; 1,066 hours for in-depth telephone interviews; 1,040 hours for completion of written forms; and 866 hours for responses to Hotline telephone questionnaires.

The Commission staff estimates the value of the time of respondents to this collection of information at $23.44 an hour. This is based on the September 2002 Bureau of Labor Statistics, Department of Labor cost for employee compensation, private industry, state and local government. At this valuation, the estimated annual cost to the public of this information collection will be about $128,263.

C. Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Dated: April 25, 2003.
Todd A. Stevenson,
Secretary, Consumer Product Safety Commission.

[FR Doc. 03-10993 Filed 5-2-03; 8:45 am]

BILLING CODE 6355-01-P